DEPARTMENT OF AGRICULTURE

Forest Service

Palmer Quarry Expansion, Mt. Hood National Forest, Clackamas County, OR

AGENCY: Forest Service, USDA.

ACTION: Notice of intent to prepare an environmental impact statement.

SUMMARY: The Forest Service, USDA, will prepare an environmental impact statement (EIS) on a proposal to expand an existing rock quarry. The Proposed Action will be in compliance with the 1990 Mt. Hood National Forest Land and Resource Management Plan (Forest Plan) as amended by the Northwest Forest Plan, which provides the overall guidance for management of this area. The Proposed Action is within the Salmon River watershed on the Zigzag Ranger District and scheduled for implementation in fiscal year 2003. The Mt. Hood National Forest invites written comments and suggestions on the scope of the analysis. The agency will give notice of the full environmental analysis and decision-making process so interested and affected people may be able to participate and contribute in the final decision.

DATES: Comments concerning the scope of the analysis should be postmarked by March 1, 2002.

ADDRESSES: Send written comments and suggestions concerning the Proposed Action in this area to Jim Tierney, Project Coordinator, 595 NW Industrial Ways, Estacada, Oregon 97023 (phone: 503-630-8751). Comments may also be sent by FAX (503-630-2299). Include your name and mailing address with your comments so documents pertaining to this project may be mailed to you.

FOR FURTHER INFORMATION CONTACT: Questions about the Proposed Action and EIS should be directed to Jim Tierney (address and phone number listed above), or to Mike Redmond, Environmental Coordination, 16400 Champion Way, Sandy, Oregon 97055-7248 (phone: 503-668-1776).

SUPPLEMENTARY INFORMATION: The Proposed Action includes expansion of the existing Palmer rock quarry on approximately 60 acres of National Forest system land. The proposal may also include road improvements on the access to the quarry. The excavated material from the quarry would be used by the Forest Service and the Oregon Department of Transportation of maintenance and reconstruction of roads, including State Highways 26 and 35.

The project area is located approximately 4 miles south of Government Camp, in Section 2, T.4S., R.8-½E., Willamette Meridian, Clackamas County, Oregon. This analysis will evaluate a range of alternatives for implementation of the project activities including a no-action alternative. The project area does not include any wilderness, roadless areas, wild and scenic rivers, late successional reserves, or riparian reserves.

Some of the preliminary issues that have been identified include: Visual quality as seen from key view points on the Forest, and traffic management conflict between commercial use and recreation.

The scoping process will include the following: Identify and clarify issues; identify key issues to be analyzed in depth; explore alternatives based on themes which will be derived from issues recognized during scoping activities; and identify potential environmental effects of the Proposed Action and alternatives.

The draft EIS is planned to be filed with the Environmental Protection Agency (EPA) and available for public review by September 2002. The EPA will publish a Notice of Availability (NOA) of the draft EIS in the Federal Register. The comment period on the draft EIS will be 45 days from the date the NOA appears in the Federal Register. Copies of the draft EIS will be distributed to interested and affected agencies, organizations, Indian Tribes, and members of the public for their review and comment. It is important that those interested in this proposal on the Mt. Hood National Forest participate at that time.

Comments received in response to this Proposed Action, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requestor of the agency's decision regarding the request for confidentiality, and where the request is denied, the agency will return the submission and notify the requestor that the comments may be resubmitted with or without names and addresses within thirty days.

The Forest Service believes, at this early stage, it is important to give reviewers notice of several court rulings related to public participation in the environmental review process. First reviewers of draft EIS must structure their participation in the environmental review of the proposal so that it is meaningful and alerts an agency to the reviewer's position and contentions. Vermont Yankee Nuclear Power Corp. v. NRDC, 435 U.S. 519, 553 (1978). Also, environmental objections that could be raised at the draft EIS stage but are not raised until after completion of the final EIS may be waived or dismissed by the courts. City of Angoon v. Hodel, 803 f. 2d 1016, 1022 (9th Cir, 1986) and Wisconsin Heritages, Inc. v. Harris, 490 F. Supp. 1334, 1338 (E.D. Wis. 1980). Because of these court rulings, it is very important that those interested in this Proposed Action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The final EIS is scheduled to be available by March 2003. In the final EIS, the Forest Service is required to respond to substantive comments received during the comment period for the draft EIS. The responsible official is Gary Larsen, Mt. Hood National Forest Supervisor. The responsible official will decide which, if any, of the alternatives will be implemented. The Palmer Quarry Expansion decision and rationale will be documented in a Record of Decision, which will be subject to Forest Service Appeal Regulations (36 CFR part 215).

Dated: December 28, 2001.
Kathryn J. Silverman,
Acting Forest Supervisor.

[FR Doc. 02-921 Filed 1-14-02; 8:45 am]

BILLING CODE 3410-11-M